GENERAL SERVICES ADMINISTRATION

Privacy Act of 1974; System of Records

AGENCY: General Services Administration.

ACTION: Notice of a revised system of records subject to the Privacy Act of 1974.

SUMMARY: The General Services Administration (GSA) is providing notice of a revision to the system of records, Disbursement and Accounts Payable Files (GSA/PPFM-1). The revision expands the categories of individuals covered by the system to include contractual and appointed experts and consultants. It also includes the purpose for the system and updates information on the system manager, the authority for the system, and changes due to automation.

DATES: Comments on the proposed revisions must be provided by June 26, 2000. The proposed revision will become effective without further notice on June 26, 2000 unless comments require otherwise.

ADDRESSES: Comments should be addressed to: GSA Privacy Act Officer, General Services Administration, CAI, 1800 F Street, NW, Washington, DC 20405.

FOR FURTHER INFORMATION CONTACT: Jinaita Kanarchuk by phone, 202-501-1452, or e-mail jinaita.kanarchuk@gsa.gov.

GSA/PPFM-1

System name:

Disbursement and Accounts Payable Files.

System location:

System records are located in GSA's finance centers as follows:

Heartland Finance Center, 1500 East Bannister Road, Kansas City, MO 64131.

Greater Southwest Finance Center, 819 Taylor Street, Fort Worth, TX 76102.

Categories of individuals covered by the system:

Current and former employees; and contractual or appointed experts and consultants.

Categories of records in the system:

The system provides for reporting each account's status. Records may include but are not limited to name, address, telephone number, vendor identification number, and Social Security number.

Authority for maintenance of the system:

31 U.S.C. 3501 et seq.; 40 U.S.C. 758; 5 U.S.C. 3109.

Purpose(s):

To assemble in one system disbursement and accounts payable records to GSA employees, and on experts and consultants procured contract or by appointment.

Routine uses of records maintained in the system, including categories of users and the purposes of such uses:

To the extent necessary, the records are available outside GSA to monitor and document adverse action proceedings and to advise on credit inquiries.

The following routine uses also apply:

a. A record may be disclosed where pertinent in any legal proceeding to which GSA is a party before a court or administrative body.

b. A record may be disclosed to a Federal, State, local, or foreign agency responsible for investigating, prosecuting, enforcing, or carrying out a statute, rule, regulation, or order when GSA becomes aware of a violation or potential violation of civil or criminal law or regulation.

c. A record may be disclosed as needed to duly authorized officials engaged in investigating or settling a grievance, complaint, or appeal filed by an employee or other individual who is the subject of the record.

d. Records may be provided to the Office of Personnel Management (OPM) in accordance with the agency's responsibility for evaluating Federal personnel management.

e. A record may be disclosed to a Member of Congress or his or her staff on behalf of and at the request of the individual who is the subject of the record.

Policies and practices for storing, retrieving, accessing, retaining, and disposing of records in the system

Storage:

Paper records are maintained in file folders and card files stored in filing cabinets, or in electronic form in computers.

Retrievability:

Records are retrieved by name or by identifying number.

Safeguards:

Records are stored in guarded buildings and/or in areas controlled by authorized personnel. Computer files are protected by the use of passwords.

Retention and disposal:

Disposition of records is in accordance with the Handbook, GSA Records Maintenance and Disposition System (OAD P 1820.2).

System manager(s) and address:

Director, Financial and Accounting Systems Division (BCA), Office of Finance, Office of the Chief Financial Officer, General Services Administration, 1800 F Street, NW, Washington, DC 20405.

Notification procedure:

Individuals may obtain information about whether they are part of this system of records from the system manager at the above address.

Record access procedures:

Requests to access records should be directed to the system manager at the above address. Inquiries should provide, as appropriate, full name, Social Security number, vendor number, address, telephone number, and the dates and transactions giving rise to the record. For identification requirements, refer to the agency regulations in 41 CFR part 105-64.

Contesting record procedures:

GSA rules for access to records, and for contesting the contents and appealing initial determinations, are provided in 41 CFR part 105-64.

Record source categories:

The individuals themselves, employees, other agencies, management officials, and non-Federal sources such as private firms.

Dated: May 22, 2000.
Daniel K. Cooper,
Director, Administrative Services Division.

[FR Doc. 00-13266 Filed 5-25-00; 8:45 am]

BILLING CODE 6820-34-M